DEPARTMENT OF THE INTERIOR

Fish and Wildlife Service

[Docket No. FWS-R4-ES-2025-1596; FXES11140400000-267-FF04AL4000]

General Conservation Plan for the Alabama Beach Mouse; Categorical Exclusion; Baldwin County, AL

AGENCY: Fish and Wildlife Service, Interior.

ACTION: Notice of availability; request for comment.

SUMMARY: We, the Fish and Wildlife Service (Service), announce receipt of an application from Lisa Eldredge, two from Sean and Dawn Carmichael, and one from Joseph and Sherrie Thompson (applicant/applicants) for four separate incidental take permits (ITP) pursuant to the Endangered Species Act (ESA) and the National Environmental Policy Act under the Service's approved General Conservation Plan (GCP) and final environmental impact statement for the Alabama beach mouse. A GCP is a conservation plan under the ESA that enables the programmatic permitting and conservation process to address a defined suite of proposed activities over a defined planning area. Each applicant requests an ITP to take the federally listed Alabama beach mouse incidental to the construction of a single-family home or to the addition of a deck or pool to a single-family home in Baldwin County, Alabama. We request public comment on these applications, which include each applicant's proposed habitat conservation plan, as well as on the Service's preliminary determination that the proposed permitting actions may qualify under the terms of the Alabama beach mouse GCP. We certify that each of the applications is statutorily complete and includes the necessary information to enroll in the GCP.

DATES: We must receive your written comments on or before March 23, 2026.

ADDRESSES:

Obtaining Documents: The documents this notice announces, as well as any comments and other materials that we receive, will be available for public inspection online in Docket No. FWS-R4-ES-2025-1596 at https://www.regulations.gov.

Submitting Comments: If you wish to submit comments on any of the documents, you may do so in writing by one of the following methods:

• Online: https://www.regulations.gov. Follow the instructions for submitting comments on Docket No. FWS-R4-ES-2025-1596.

• U.S. Mail: Public Comments Processing, Attn: Docket No. FWS-R4-ES-2025-1596; U.S. Fish and Wildlife Service, MS: PRB/3W, 5275 Leesburg Pike, Falls Church, VA 22041-3803.

FOR FURTHER INFORMATION CONTACT: William Lynn, by U.S. mail (see ADDRESSES), by telephone at 1-251-538-2065 or via email at william_lynn@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application under the approved General Conservation Plan (GCP) for the Alabama beach mouse from Lisa Eldredge, two applications from Dawn Carmichael, and one from Joseph and Sherrie Thompson for an ITP under the Endangered Species Act, as amended (ESA; 16 U.S.C. 1531 et seq.). Each applicant requests an ITP to take the federally listed Alabama beach mouse (ABM; Peromyscus polionotus ammobates). All applicants will take ABM incidental to the construction, maintenance, and operation of a single-family home or to the addition of a deck or pool to a single-family home in Baldwin County, Alabama. We request public comment on the applications, on the applicants' HCPs, and on the Service's preliminary determination that the proposed ITPs may qualify for a categorical exclusion under the GCP and final environmental impact statement (FEIS) for the ABM published on March 28, 2012 (FWS-R4-ES-2012-N063).

Proposed Projects

Permit Number: PER23229509

Lisa Eldredge, applicant, requests a 50-year ITP to take ABM via the conversion of 0.030 acres (ac) of occupied nesting, foraging, and sheltering habitat incidental to the construction of a deck and to the tear down and reconstruction of a single-family home on a 0.460-ac parcel located at 3413 Ponce de Leon Court in Gulf Shores, Alabama. The applicant proposes to mitigate for the take of ABM through an in-lieu fee of $3,068.20 to the Alabama Coastal Heritage Trust's ABM conservation fund.

Permit Number: PER23299702

Sean and Dawn Carmichael, applicants, request a 50-year ITP to take ABM via the conversion of 0.147 ac of occupied nesting, foraging, and sheltering habitat incidental to the construction of a single-family home on a 1.01-ac parcel located at 2124 West Beach Boulevard in Gulf Shores, Alabama. They were approved for the long driveway option of the GCP (driveway needed longer than 100 feet). The applicants propose to mitigate for the take of ABM through an in-lieu fee of $14,692.40 to the Alabama Coastal Heritage Trust's ABM conservation fund.

Permit Number: PER23304933

The Sean and Dawn Carmichael, applicants, request a 50-year ITP to take Alabama beach mice via the conversion of approximately 0.147 ac of occupied nesting, foraging, and sheltering ABM habitat incidental to the construction of a single-family home on a 0.91-ac parcel located at 2130 West Beach Boulevard in Gulf Shores, Alabama. They were approved for the long driveway option of the GCP (driveway longer than 100 feet). The applicant proposes to mitigate for the take of ABM through an in-lieu fee of $14,692.40 to the Alabama Coastal Heritage Trust's ABM conservation fund.

Permit Number: PER23318025

Joseph and Sherrie Thompson, applicants, request a transfer and to modify an existing 30-year ITP to take Alabama beach mice via the conversion of 0.099-ac of occupied nesting, foraging, and sheltering ABM habitat incidental to the construction of a pool with deck to an existing house on a 0.464-ac lot located Driftwood Drive, Gulf Shores, Alabama. The applicant proposes to mitigate for the take of ABM through an in-lieu fee of $9,954.40 to the Alabama Coastal Heritage Trust's ABM conservation fund.

Our Preliminary Determination

The Service has made a preliminary determination that reasonably foreseeable effects of the applicants' proposed projects, including the construction of single-family homes and associated infrastructure (e.g., electric, water, and sewer lines) and of pool and deck additions, would have a minor effect on ABM and the human environment. Therefore, we have preliminarily determined that the proposed ESA section 10(a)(1)(B) permit would meet the requirements of the GCP and FEIS.

Next Steps

The Service will evaluate the applications and the comments to determine whether to issue the requested ITP. We also will conduct an intra-Service consultation pursuant to section 7 of the ESA to evaluate the effects of the proposed take. After considering the preceding and other matters, we will determine whether the permit issuance criteria of section 10(a)(1)(B) of the ESA have been met. If met, the Service will issue ITP number PER23229509 to Lisa Eldredge, ITP number(s) PER23299702 and PER23304933 to Sean and Dawn Carmichael, and ITP Number PER23318025 to Joseph and Sherrie Thompson.

Public Availability of Comments

Before including your address, phone number, email address, or other personal identifying information in your comment, be aware that your entire comment, including your personal identifying information, may be made available to the public. If you submit a comment at https://www.regulations.gov, your entire comment, including any personal identifying information, will be posted on the website. If you submit a hard copy comment that includes personal identifying information, such as your address, phone number, or email address, you may request at the top of your document that we withhold this information from public review. However, we cannot guarantee that we will be able to do so. Moreover, all submissions from organizations or businesses and from individuals identifying themselves as representatives or officials of organizations or businesses will be made available for public disclosure in their entirety.

Authority

The Service provides this notice under section 10(c) of the ESA (16 U.S.C. 1531 et seq.) and its implementing regulations (50 CFR 17.32), National Environmental Policy Act of 1969 (42 U.S.C. 4321 et seq.), as amended, and the Department of the Interior's implementing regulations (43 CFR part 46).

Jeffrey Powell,
Field Supervisor, Alabama Ecological Service Field Office.

[FR Doc. 2026-03428 Filed 2-19-26; 8:45 am]

BILLING CODE 4333-15-P